DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Arizona:
Maricopa (FEMA Docket No.: B-2302). | City of Buckeye (22-09-0619P). | The Honorable Eric Orsborn, Mayor, City of Buckeye, 530 East Monroe Avenue, Buckeye, AZ 85326. | Engineering Department, 530 East Monroe Avenue, Buckeye, AZ 85326. | Apr. 14, 2023 | 040039
Maricopa (FEMA Docket No.: B-2302). | City of Goodyear (22-09-0284P). | The Honorable Joe Pizzillo, Mayor, City of Goodyear, 1900 North Civic Square, Goodyear, AZ 85395. | Engineering and Development Services, 14455 West Van Buren Street, Suite D101, Goodyear, AZ 85338. | Apr. 14, 2023 | 040046
Maricopa (FEMA Docket No.: B-2295). | City of Peoria (22-09-0532P). | The Honorable Jason Beck, Mayor, City of Peoria, 8401 West Monroe Street, Peoria, AZ 85345. | City Hall, 8401 West Monroe Street, Peoria, AZ 85345. | Mar. 24, 2023 | 040050
Maricopa (FEMA Docket No.: B-2302). | City of Phoenix (22-09-0759P). | The Honorable Kate Gallego, Mayor, City of Phoenix, City Hall, 200 West Washington Street, 11th Floor, Phoenix, AZ 85003. | Street Transportation Department, 200 West Washington Street, 5th Floor, Phoenix, AZ 85003. | Apr. 7, 2023 | 040051
Maricopa (FEMA Docket No.: B-2326). | City of Scottsdale (22-09-1364P). | The Honorable David Ortega, Mayor, City of Scottsdale, 3939 North Drinkwater Boulevard, Scottsdale, AZ 85251. | Planning Records, 7447 East Indian School Road, Suite 100, Scottsdale, AZ 85251. | Jun. 9, 2023 | 045012
Maricopa (FEMA Docket No.: B-2295). | Unincorporated Areas of Maricopa County (22-09-0532P). | The Honorable Clint L. Hickman, Chair, Board of Supervisors, Maricopa County, 301 West Jefferson Street, 10th Floor, Phoenix, AZ 85003. | Flood Control District of Maricopa County, 2801 West Durango Street, Phoenix, AZ 85009. | Mar. 24, 2023 | 040037
Maricopa (FEMA Docket No.: B-2326). | Unincorporated Areas of Maricopa County (22-09-1193P). | The Honorable Clint L. Hickman, Chair, Board of Supervisors, Maricopa County, 301 West Jefferson Street, 10th Floor Phoenix, AZ 85003. | Flood Control District of Maricopa County, 2801 West Durango Street, Phoenix, AZ 85009. | Jul. 7, 2023 | 040037
California:
Los Angeles (FEMA Docket No.: B-2295). | City of Palmdale (20-09-1309P). | The Honorable Laura Bettencourt, Mayor, City of Palmdale, 38300 Sierra Highway, Palmdale, CA 93550. | Public Works Department, 38250 North Sierra Highway, Palmdale, CA 93550. | Feb. 15, 2023 | 060144
Nevada (FEMA Docket No.: B-2326). | City of Grass Valley (22-09-1769X). | The Honorable Ben Aguilar, Mayor, City of Grass Valley, 125 East Main Street, Grass Valley, CA 95945. | Public Works Department, 125 East Main Street, Grass Valley, CA 95945. | May 31, 2023 | 060211
Nevada (FEMA Docket No.: B-2326). | Town of Truckee (22-09-0327P). | The Honorable Lindsay Romack, Mayor, Town of Truckee, 10183 Truckee Airport Road, Truckee, CA 96161. | Eric W. Rood Administrative Center, 950 Maidu Avenue, Nevada City, CA 95959. | Jun. 12, 2023 | 060762
Placer (FEMA Docket No.: B-2295). | Unincorporated Areas of Placer County (21-09-1584P). | The Honorable Cindy Gustafson, Chair, Board of Supervisors, Placer County, 175 Fulweiler Avenue, Auburn, CA 95603. | Placer County Public Works, 3091 County Center Drive, Suite 220, Auburn, CA 95603. | Mar. 20, 2023 | 060239
Riverside (FEMA Docket No.: B-2311). | Agua Caliente Band of Cahuilla Indian Reservation (21-09-0616P). | The Honorable Reid D. Milanovich, Chair, Tribal Council, Agua Caliente Band of Cahuilla Indians, 5401 Dinah Shore Drive, Palm Springs, CA 92264. | Tribal Administrative Office, Planning and Natural Resources, 5401 Dinah Shore Drive, Palm Springs, CA 92264. | Apr. 28, 2023 | 060763
Riverside (FEMA Docket No.: B-2326). | City of Corona (22-09-1326P). | The Honorable Tony Daddario, Mayor, City of Corona, 400 South Vicentia Avenue, Corona, CA 92882. | City Hall, 400 South Vicentia Avenue, Corona, CA 92882. | Jun. 5, 2023 | 060250
Riverside (FEMA Docket No.: B-2326). | City of Corona (22-09-1747P). | The Honorable Tony Daddario, Mayor, City of Corona, 400 South Vicentia Avenue, Corona, CA 92882. | City Hall, 400 South Vicentia Avenue, Corona, CA 92882. | Jul. 10, 2023 | 060250
Riverside (FEMA Docket No.: B-2295). | City of Lake Elsinore (22-09-0688P). | The Honorable Timothy J. Sheridan, Mayor, City of Lake Elsinore, City Hall, 130 South Main Street, Lake Elsinore, CA 92530. | Engineering Division, 130 South Main Street, Lake Elsinore, CA 92530. | Mar. 2, 2023 | 060636
Riverside (FEMA Docket No.: B-2326). | City of Menifee (22-09-0396P). | The Honorable Bill Zimmerman, Mayor, City of Menifee, 29844 Haun Road, Menifee, CA 92586. | Public Works and Engineering Department, 29714 Haun Road, Menifee, CA 92586. | Jun. 15, 2023 | 060176
Riverside (FEMA Docket No.: B-2311). | City of Menifee (22-09-0958P). | The Honorable Bill Zimmerman, Mayor, City of Menifee, 29844 Haun Road, Menifee, CA 92586. | Public Works and Engineering Department, 29714 Haun Road, Menifee, CA 92586. | May 17, 2023 | 060176
Riverside (FEMA Docket No.: B-2326). | City of Menifee (22-09-1027P). | The Honorable Bill Zimmerman, Mayor, City of Menifee, 29844 Haun Road, Menifee, CA 92586. | Public Works and Engineering Department, 29714 Haun Road, Menifee, CA 92586. | Jun. 30, 2023 | 060176
Riverside (FEMA Docket No.: B-2326). | City of Moreno Valley (22-09-0975P). | The Honorable Ulises Cabrera, Mayor, City of Moreno Valley, 14177 Frederick Street, Moreno Valley, CA 92553. | Public Works Department, 14177 Frederick Street, Moreno Valley, CA 92552. | Jul. 10, 2023 | 065074
Riverside (FEMA Docket No.: B-2311). | City of Palm Springs (21-09-0616P). | The Honorable Lisa Middleton, Mayor, City of Palm Springs, 3200 East Tahquitz Canyon Way, Palm Springs, CA 92262. | Public Works and Engineering Department, 3200 East Tahquitz Canyon Way, Palm Springs, CA 92262. | Apr. 28, 2023 | 060257
Riverside (FEMA Docket No.: B-2326). | Unincorporated Areas of Riverside County (22-09-0281P). | The Honorable Kevin Jeffries, Chair, Board of Supervisors, Riverside County, 4080 Lemon Street, 5th Floor, Riverside, CA 92501. | Riverside County, Flood Control and Water Conservation District, 1995 Market Street, Riverside, CA 92501. | Jun. 16, 2023 | 060245
Riverside (FEMA Docket No.: B-2326). | Unincorporated Areas of Riverside County (22-09-0396P). | The Honorable Kevin Jeffries, Chair, Board of Supervisors, Riverside County, 4080 Lemon Street, 5th Floor, Riverside, CA 92501. | Riverside County, Flood Control and Water Conservation District, 1995 Market Street, Riverside, CA 92501. | Jun. 15, 2023 | 060245
Riverside (FEMA Docket No.: B-2311). | Unincorporated Areas of Riverside County (22-09-0446P). | The Honorable Kevin Jeffries, Chair, Board of Supervisors, Riverside County, 4080 Lemon Street, 5th Floor, Riverside, CA 92501. | Riverside County, Flood Control and Water Conservation District, 1995 Market Street, Riverside, CA 92501. | May 4, 2023 | 060245
Riverside (FEMA Docket No.: B-2295). | Unincorporated Areas of Riverside County (22-09-0688P). | The Honorable Kevin Jeffries, Chair, Board of Supervisors, Riverside County, 4080 Lemon Street, 5th Floor, Riverside, CA 92501. | Riverside County, Flood Control and Water Conservation District, 1995 Market Street, Riverside, CA 92501. | Mar. 2, 2023 | 060245
Riverside (FEMA Docket No.: B-2326). | Unincorporated Areas of Riverside County (22-09-1027P). | The Honorable Kevin Jeffries, Chair, Board of Supervisors, Riverside County, 4080 Lemon Street, 5th Floor, Riverside, CA 92501. | Riverside County, Flood Control and Water Conservation District, 1995 Market Street, Riverside, CA 92501. | Jun. 30, 2023 | 060245
Riverside (FEMA Docket No.: B-2326). | Unincorporated Areas of Riverside County (22-09-1747P). | The Honorable Kevin Jeffries, Chair, Board of Supervisors, Riverside County, 4080 Lemon Street, 5th Floor, Riverside, CA 92501. | Riverside County, Flood Control and Water Conservation District, 1995 Market Street, Riverside, CA 92501. | Jul. 10, 2023 | 060245
San Diego (FEMA Docket No.: B-2295). | City of Oceanside (21-09-0869P). | The Honorable Esther C. Sanchez, Mayor, City of Oceanside, 300 North Coast Highway, Oceanside, CA 92054. | City Hall, 300 North Coast Highway, Oceanside, CA 92054. | Feb. 21, 2023 | 060294
San Diego (FEMA Docket No.: B-2302). | City of San Diego (22-09-1348P). | The Honorable Todd Gloria, Mayor, City of San Diego, 202 C Street, 11th Floor, San Diego, CA 92101. | Development Services Department, 1222 1st Avenue, MS 301, San Diego, CA 92101. | Apr. 24, 2023 | 060295
San Diego (FEMA Docket No.: B-2326). | City of San Marcos (22-09-1048P). | The Honorable Rebecca Jones, Mayor, City of San Marcos, 1 Civic Center Drive, San Marcos, CA 92069. | City Hall, 1 Civic Center Drive, San Marcos, CA 92069. | Jul. 5, 2023 | 060296
San Diego (FEMA Docket No.: B-2295). | Unincorporated Areas of San Diego County (22-09-0266P). | The Honorable Nora Vargas, Chair, Board of Supervisors, San Diego County, 1600 Pacific Highway Room 335, San Diego, CA 92101. | San Diego County Flood Control District, Department of Public Works, 5510 Overland Avenue Suite 410, San Diego, CA 92123. | Mar. 1, 2023 | 060284
Santa Clara (FEMA Docket No.: B-2295). | Unincorporated Areas of Santa Clara County (22-09-0043P). | The Honorable Susan Ellenberg, President, Board of Supervisors, Santa Clara County, 70 West Hedding Street 10th Floor East Wing, San Jose, CA 95110. | Santa Clara County, Department of Planning and Development, 70 West Hedding Street, 7th Floor East Wing, San Jose, CA 95110. | Mar. 23, 2023 | 060337
Sonoma (FEMA Docket No.: B-2311). | City of Santa Rosa (22-09-0905P). | The Honorable Chris Rogers, Mayor, City of Santa Rosa, 100 Santa Rosa Avenue Room 10, Santa Rosa, CA 95404. | City Hall, Engineering Division, 100 Santa Rosa Avenue, Room 3, Santa Rosa, CA 95404. | May 4, 2023 | 060381
Sonoma (FEMA Docket No.: B-2311). | Unincorporated Areas of Sonoma County (22-09-0905P). | The Honorable Lynda Hopkins, Chair, Board of Supervisors, Sonoma County, 575 Administration Drive, Room 100A, Santa Rosa, CA 95403. | Sonoma County, Permit and Resource Management, 2550 Ventura Avenue, Santa Rosa, CA 95403. | May 4, 2023 | 060375
Ventura (FEMA Docket No.: B-2295). | City of Simi Valley (22-09-0287P). | The Honorable Fred D. Thomas, Mayor, City of Simi Valley, 2929 Tapo Canyon Road, Simi Valley, CA 93063. | City Hall, 2929 Tapo Canyon Road, Simi Valley, CA 93063. | Mar. 3, 2023 | 060421
Florida:
Duval (FEMA Docket No.: B-2302). | City of Jacksonville (21-04-5039P). | The Honorable Lenny Curry, Mayor, City of Jacksonville, 117 West Duval Street, Suite 400, Jacksonville, FL 32202. | City Hall, 117 West Duval Street, Jacksonville, FL 32202. | Apr. 14, 2023 | 120077
Duval (FEMA Docket No.: B-2302). | City of Jacksonville (22-04-0449P). | The Honorable Lenny Curry, Mayor, City of Jacksonville, 117 West Duval Street, Suite 400, Jacksonville, FL 32202. | City Hall, 117 West Duval Street, Jacksonville, FL 32202. | Apr. 19, 2023 | 120077
Nassau (FEMA Docket No.: B-2326). | Unincorporated Areas of Nassau County (22-04-3256P). | Taco Pope, County Manager, Nassau County, County Manager's Office, 96135 Nassau Place, Suite 1, Yulee, FL 32097. | Nassau County Building Department, 96161 Nassau Place, Yulee, FL 32097. | Jun. 22, 2023 | 120170
Orange (FEMA Docket No.: B-2302). | City of Orlando (22-04-0252P). | The Honorable Buddy Dyer, Mayor, City of Orlando, 400 South Orange Avenue, Orlando, FL 32801. | City Hall, Permitting Services, 400 South Orange Avenue, 1st Floor, Orlando, FL 32801. | Apr. 4, 2023 | 120186
Walton (FEMA Docket No.: B-2302). | Unincorporated Areas of Walton County (22-04-2584P). | Chair Trey Nick, Walton County, 263 Chaffin Avenue, DeFuniak Springs, FL 32433. | Walton Building Department, Walton County Courthouse Annex, 6th Street, Sloss Avenue, DeFuniak Springs, FL 32433. | Apr. 27, 2023 | 120317
Hawaii: Honolulu (FEMA Docket No.: B-2311). | City and County of Honolulu (22-09-0548P). | The Honorable Rick Blangiardi, Mayor, City and County of Honolulu, 530 South King Street Room 300, Honolulu, HI 96813. | Department of Planning and Permitting, 650 South King Street 1st Floor, Honolulu, HI 96813. | May 3, 2023 | 150001
Idaho:
Ada (FEMA Docket No.: B-2295). | Unincorporated Areas of Ada County (21-10-0367P). | Chair Rod Beck, Ada County Board of County Commissioners, 200 West Front Street, 3rd Floor, Boise, ID 83702. | Ada County Development Service Office, 650 Main Street, Boise, ID 83702. | Mar. 30, 2023 | 160001
Ada (FEMA Docket No.: B-2302). | Unincorporated Areas of Ada County (22-10-0556P). | Chair Rod Beck, Ada County Board of County Commissioners, 200 West Front Street, 3rd Floor, Boise, ID 83702. | Ada County Development Service Office, 650 Main Street, Boise, ID 83702. | Apr. 4, 2023 | 160001
Bonneville (FEMA Docket No.: B-2295). | City of Ammon (21-10-1025P). | The Honorable Sean Coletti, Mayor, City of Ammon, 2135 South Ammon Road, Ammon, ID 83406. | City Hall, 2135 South Ammon Road, Ammon, ID 83406. | Feb. 1, 2023 | 160028
Bonneville (FEMA Docket No.: B-2295). | Unincorporated Areas of Bonneville County (21-10-1025P). | Chair Roger Christensen, Bonneville County Board of Commissioners, 605 North Capital Avenue, Idaho Falls, ID 83402. | Bonneville County Courthouse, 605 North Capital Avenue, Idaho Falls, ID 83402. | Feb. 1, 2023 | 160027
Canyon (FEMA Docket No.: B-2326). | City of Caldwell (22-10-0547P). | The Honorable Jarom Wagoner, Mayor, City of Caldwell, City Hall, 411 Blaine Street, Caldwell, ID 83605. | City Hall, 621 Cleveland Boulevard, 2nd Floor, Caldwell, ID 83605. | Jul. 3, 2023 | 160036
Illinois:
Cook (FEMA Docket No.: B-2326). | City of Calumet City (22-05-1085P). | The Honorable Thaddeus M. Jones, Mayor, City of Calumet City, 204 Pulaski Road, Calumet City, IL 60409. | City Hall, 204 Pulaski Road, Calumet City, IL 60409. | Jun. 29, 2023 | 170072
Cook (FEMA Docket No.: B-2295). | City of Country Club Hills (22-05-2868P). | The Honorable James W. Ford, Mayor, City of Country Club Hills, 4200 West Main Street, Country Club Hills, IL 60478. | City Hall, 4200 West Main Street, Country Club Hills, IL 60478. | Mar. 14, 2023 | 170078
Cook (FEMA Docket No.: B-2302). | City of Elgin (22-05-0345P). | The Honorable David Kaptain, Mayor, City of Elgin, 150 Dexter Court, Elgin, IL 60120. | Public Works Department, Engineering Department, 150 Dexter Court, Elgin, IL 60120. | Mar. 27, 2023 | 170087
Cook (FEMA Docket No.: B-2358). | Unincorporated Areas of Cook County (20-05-1896P). | Toni Preckwinkle, President, Cook County Board of Commissioners, 118 North Clark Street, Room 537, Chicago, IL 60602. | Cook County Building and Zoning Department, 69 West Washington Street, 28th Floor, Chicago, IL 60602. | Oct. 6, 2023 | 170054
Cook (FEMA Docket No.: B-2302). | Unincorporated Areas of Cook County (22-05-0345P). | Toni Preckwinkle, President, Cook County Board of Commissioners, 118 North Clark Street Room 537, Chicago, IL 60602. | Cook County Building and Zoning Department, 69 West Washington Street, 28th Floor, Chicago, IL 60602. | Mar. 27, 2023 | 170054
Cook (FEMA Docket No.: B-2349). | Village of Palatine (22-05-2450P). | The Honorable Jim Schwantz, Mayor, Village of Palatine, 200 East Wood Street, Palatine, IL 60067. | Village Hall, 200 East Wood Street, Palatine, IL 60067. | Sep. 15. 2023 | 175170
Cook (FEMA Docket No.: B-2358). | Village of Richton Park (20-05-1896P). | Rick Reinbold, Village President, Village of Richton Park, 4455 Sauk Trail, Richton Park, IL 60471. | Municipal Building, 4455 Sauk Trail, Richton Park, IL 60471. | Oct. 6, 2023 | 170149
Cook (FEMA Docket No.: B-2326). | Village of South Holland (22-05-1085P). | The Honorable Don A. De Graff, Mayor, Village of South Holland, Village Hall, 16226 Wausau Avenue, South Holland, IL 60473. | Planning & Development Department, 16226 Wausau Avenue, South Holland, IL 60473. | Jun. 29, 2023 | 170163
Cook and DuPage (FEMA Docket No.: B-2302). | Village of Bartlett (22-05-0345P). | Kevin Wallace, Village President, Village of Bartlett, 228 South Main Street, Bartlett, IL 60103. | Village Hall, 228 South Main Street, Bartlett, IL 60103. | Mar. 27, 2023 | 170059
Grundy (FEMA Docket No.: B-2349). | City of Morris (23-05-0362P). | The Honorable Chris Brown, Mayor, City of Morris, 700 North Division Street, Morris, IL 60450. | City Hall, 700 North Division Street, Morris, IL 60450. | Aug. 24, 2023 | 170263
Grundy (FEMA Docket No.: B-2349) . | Unincorporated Areas of Grundy County (23-05-0362P). | Chris Balkema, Chair, Grundy County Board, Grundy County Administration Building, 1320 Union Street, Morris, IL 60450. | Grundy County Administration Building, 1320 Union Street, Morris, IL 60450. | Aug. 24, 2023 | 170256
Kane (FEMA Docket No.: B-2295). | City of Aurora (22-05-1707P). | The Honorable Richard C. Irvin, Mayor, City of Aurora, 44 East Downer Place, Aurora, IL 60505. | City Hall, Engineering Department, 44 East Downer Place, Aurora, IL 60505. | Mar. 10, 2023 | 170320
Kane (FEMA Docket No.: B-2302). | City of St. Charles (22-05-2140P). | The Honorable Lora Vitek, Mayor, City of St. Charles, City Hall, 2 East Main Street, St. Charles, IL 60174. | City Hall, 2 East Main Street, St. Charles, IL 60174. | Apr. 18, 2023 | 170330
Kane (FEMA Docket No.: B-2295). | Unincorporated Areas of Kane County (22-05-1707P). | Corinne Pierog, Chair, Kane County Board, Kane County Government Center, 719 Batavia Avenue Building A, Geneva, IL 60134. | Water Resources Department, Kane County Government Center, 719 South Batavia Avenue, Building A, Geneva, IL 60134. | Mar. 10, 2023 | 170896
Lake (FEMA Docket No.: B-2358). | Village of Mundelein (23-05-0305P). | The Honorable Steve Lentz, Mayor, Village of Mundelein, 300 Plaza Circle, Mundelein, IL 60060. | Village Hall, 300 Plaza Circle, Mundelein, IL 60060. | Oct. 10, 2023 | 170382
Lake (FEMA Docket No.: B-2358). | Village of Vernon Hills (23-05-0305P). | Roger Byrne, Village President Village of Vernon Hills, 290 Evergreen Drive, Vernon Hills, IL 60061. | Village Hall, 290 Evergreen Drive, Vernon Hills, IL 60061. | Oct. 10, 2023 | 170394
McHenry (FEMA Docket No.: B-2295). | Unincorporated Areas of McHenry County (22-05-1881P). | The Honorable Michael Buehler, Chair, McHenry County Board, McHenry County Government Center, 2200 North Seminary Avenue, Woodstock, IL 60098. | McHenry County Government Center, 2200 North Seminary Avenue, Woodstock, IL 60098. | Feb. 6, 2023 | 170732
Will (FEMA Docket No.: B-2349). | City of Aurora (23-05-0786P). | The Honorable Richard C. Irvin, Mayor, City of Aurora, 44 East Downer Place, Aurora, IL 60505. | City Hall, Engineering Department, 44 East Downer Place, Aurora, IL 60505. | Aug. 28, 2023 | 170320
Will (FEMA Docket No.: B-2326). | City of Naperville (22-05-3407P). | The Honorable Scott A. Wehrli, Mayor, City of Naperville, Municipal Center, 400 South Eagle Street, Naperville, IL 60540. | Municipal Center, 400 South Eagle Street, Naperville, IL 60540. | Jun. 29, 2023 | 170213
Will (FEMA Docket No.: B-2338). | City of Wilmington (22-05-2769P). | The Honorable Ben Dietz, Mayor, City of Wilmington, 1165 South Water Street, Wilmington, IL 60481. | City Hall, 1165 South Water Street, Wilmington, IL 60481. | Jul. 13, 2023 | 170715
Will (FEMA Docket No.: B-2338). | Unincorporated Areas of Will County (22-05-2410P). | Jennifer Bertino-Tarrant, Will County Executive, Will County Office Building, 302 North Chicago Street, Joliet, IL 60432. | Will County Land Use Department, 58 East Clinton Street, Suite 100, Joliet, IL 60432. | Jul. 13, 2023 | 170695
Will (FEMA Docket No.: B-2338). | Unincorporated Areas of Will County (22-05-2769P). | Jennifer Bertino-Tarrant, Will County Executive, Will County Office Building, 302 North Chicago Street, Joliet, IL 60432. | Will County Land Use Department, 58 East Clinton Street, Suite 100, Joliet, IL 60432. | Jul. 13, 2023 | 170695
Will (FEMA Docket No.: B-2349). | Unincorporated Areas of Will County (23-05-0786P). | Jennifer Bertino-Tarrant, Will County Executive, Will County Office Building, 302 North Chicago Street, Joliet, IL 60432. | Will County Land Use Department, 58 East Clinton Street, Suite 100, Joliet, IL 60432. | Aug., 28, 2023 | 170695
Will (FEMA Docket No.: B-2349). | Village of New Lenox (23-05-0608P). | The Honorable Timothy A. Baldermann, Mayor, Village of New Lenox, 1 Veterans Parkway, New Lenox, IL 60451. | Village Hall, 1 Veterans Parkway, New Lenox, IL 60451. | Sep. 15, 2023 | 170706
Will (FEMA Docket No.: B-2295). | Village of Plainfield (22-05-2125P). | John F. Argoudelis, Village President, Village of Plainfield, 24401 West Lockport Street, Plainfield, IL 60544. | Village Hall, 24401 West Lockport Street, Plainfield, IL 60544. | Mar. 22, 2023 | 170771
Will (FEMA Docket No.: B-2338). | Village of Plainfield (22-05-2410P). | John F. Argoudelis, Village President, Village of Plainfield, 24401 West Lockport Street, Plainfield, IL 60544. | Village Hall, 24401 West Lockport Street, Plainfield, IL 60544. | Jul. 13, 2023 | 170771
Will (FEMA Docket No.: B-2349). | Village of Romeoville (23-05-0857P). | The Honorable John D. Noak, Mayor, Village of Romeoville, 1050 West Romeo Road, Romeoville, IL 60446. | Village Hall, 1050 West Romeo Road, Romeoville, IL 60446. | Oct. 2, 2023 | 170711
Indiana:
Hamilton (FEMA Docket No.: B-2311). | City of Noblesville (22-05-1795P). | The Honorable Chris Jensen, Mayor, City of Noblesville, City Hall, 16 South 10th Street, Noblesville, IN 46060. | Planning Department, 16 South 10th Street, Suite 150, Noblesville, IN 46060. | Apr. 6, 2023 | 180082
Lake (FEMA Docket No.: B-2295). | City of Hammond (22-05-2665P). | The Honorable Thomas M. McDermott, Jr., Mayor, City of Hammond, City Hall, 5925 Calumet Avenue, Hammond, IN 46320. | City Hall, 5925 Calument Avenue, Hammond, IN 46320. | Jan. 26, 2023 | 180134
Lake (FEMA Docket No.: B-2311). | Town of St. John (21-05-3750P). | Chair Mike Aurelio, St. John Town Council, Municipal Offices, 10995 West 93rd Avenue, St. John, IN 46373. | Town Clerk's Office, 10955 West 93rd Avenue, St. John, IN 46373. | May 11, 2023 | 180141
Lake (FEMA Docket No.: B-2311). | Unincorporated Areas of Lake County (21-05-3750P). | Ted Bilski, President, Lake County Council, 2293 North Main Street, Building `A', 3rd Floor, Crown Point, IN 46307. | Lake County Building, 2293 North Main Street, Crown Point, IN 46307. | May 11, 2023 | 180126
Monroe (FEMA Docket No.: B-2326). | City of Bloomington (22-05-1490P). | The Honorable John Hamilton, Mayor, City of Bloomington, 401 North Morton Street Suite 210, Bloomington, IN 47404. | Planning Department, 401 North Morton Street, Bloomington, IN 47402. | Jul. 5, 2023 | 180169
Monroe (FEMA Docket No.: B-2326). | Unincorporated Areas of Monroe County (22-05-1490P). | Julie Thomas, Commissioner—District 2, Monroe County Board of Commissioners, Monroe County Courthouse, 100 West Kirkwood Avenue, Bloomington, IN 47404. | Monroe County Courthouse, 100 West Kirkwood Avenue, Room 306, Bloomington, IN 47404. | Jul. 5, 2023 | 180444
Kansas:
Reno (FEMA Docket No.: B-2302). | City of Hutchinson (22-07-0572P). | The Honorable Jade Piros De Carvalho, Mayor, City of Hutchinson, 125 East Avenue B, Hutchinson, KS 67501. | City Hall, 125 East Avenue B, Hutchinson, KS 67501. | Apr. 3, 2023 | 200283
Reno (FEMA Docket No.: B-2302). | Unincorporated Areas of Reno County (22-07-0572P). | Daniel Friesen, Chair, Reno County Commissioner, 206 West 1st Avenue, Hutchinson, KS 67501. | Reno County Public Works Department, 600 Scott Boulevard, South Hutchinson, KS 67505. | Apr. 3, 2023 | 200567
Michigan:
Grand Traverse (FEMA Docket No.: B-2295). | Charter Township of Garfield (22-05-0580P). | Supervisor Chuck Korn, Township Board of Trustees, The Charter Township of Garfield, 3848 Veterans Drive, Traverse City, MI 49684. | Township Hall, 3848 Veterans Drive, Traverse City, MI 49684. | Jan. 23, 2023 | 260753
Grand Traverse (FEMA Docket No.: B-2295). | Township of Blair (22-05-0580P). | Supervisor Nicole Blonshine, Township of Blair, 2121 County Road 633, Grawn, MI 49637. | Township Hall, 2121 County Road 633, Grawn, MI 49637. | Jan. 23, 2023 | 260780
Oakland (FEMA Docket No.: B-2302). | City of Novi (22-05-0343P). | The Honorable Bob Gatt, Mayor, City of Novi, Civic Center, 45175 West Ten Mile Road, Novi, MI 48375. | Civic Center, 45175 West Ten Mile Road, Novi, MI 48375. | Mar. 10, 2023 | 260175
Minnesota:
Anoka (FEMA Docket No.: B-2302). | City of Lino Lakes (22-05-1976P). | The Honorable Rob Rafferty, Mayor, City of Lino Lakes, City Hall, 600 Town Center Parkway, Lino Lakes, MN 55014. | City Hall, 600 Town Center Parkway, Lino Lakes, MN 55014. | Mar. 22, 2023 | 270015
Dakota (FEMA Docket No.: B-2302). | Unincorporated Areas of Dakota County (22-05-1797P). | Commissioner Mike Slavik, District 1, Dakota County, Administration Center, 1590 Highway 55, Hastings, MN 55033. | Dakota County Administration Center, 1590 Highway 55, Hastings, MN 55033. | Apr. 17, 2023 | 270101
Hennepin (FEMA Docket No.: B-2326). | City of Plymouth (22-05-2089P). | The Honorable Jeffry Wosje, Mayor, City of Plymouth, 3400 Plymouth Boulevard, Plymouth, MN 55447. | City Hall, 3400 Plymouth Boulevard, Plymouth, MN 55447. | Jun. 30, 2023 | 270179
Redwood (FEMA Docket No.: B-2311). | City of Redwood Falls (22-05-1715P). | The Honorable Gary Revier, Mayor, City of Redwood Falls, P.O. Box 526, Redwood Falls, MN 56283. | City Office, 333 South Washington Street, Redwood Falls, MN 56283. | May 5, 2023 | 270393
Redwood (FEMA Docket No.: B-2311). | Unincorporated Areas of Redwood County (22-05-1715P). | Chair Priscilla Klabunde, Board of Redwood County Commissioners, P.O. Box 130, Redwood Falls, MN 56283. | Redwood County Government Center, 403 South Mill Street, Redwood Falls, MN 56283. | May 5, 2023 | 270644
Wabasha (FEMA Docket No.: B-2326). | City of Mazeppa (22-05-2195P). | The Honorable Chris Hagfors, Mayor, City of Mazeppa, 121 Maple Street, Mazeppa, MN 55956. | City Hall, 1st and Maple Streets, Mazeppa, MN 55957. | Jun. 15, 2023 | 270487
Missouri: Jackson (FEMA Docket No.: B-2311). | City of Lee's Summit (22-07-0797P). | The Honorable Bill Baird, Mayor, City of Lee's Summit, 220 Southeast Green Street, Lee's Summit, MO 64063. | Mayor's Office, 207 Southwest Market Street, Lee's Summit, MO 64063. | May 8, 2023 | 290174
Nebraska:
Lancaster (FEMA Docket No.: B-2326). | City of Lincoln (22-07-0708P). | The Honorable Leirion Gaylor Baird, Mayor, City of Lincoln, 555 South 10th Street, Lincoln, NE 68508. | Building & Safety Department, 555 South 10th Street, Lincoln, NE 68508. | May 23, 2023 | 315273
Lancaster (FEMA Docket No.: B-2311). | City of Lincoln (22-07-0792P). | The Honorable Leirion Gaylor Baird, Mayor, City of Lincoln, 555 South 10th Street Suite 301, Lincoln, NE 68508. | Building and Safety Department, 555 South 10th Street, Lincoln, NE 68508. | May 12, 2023 | 315273
Lancaster (FEMA Docket No.: B-2302). | City of Lincoln (22-07-0824P). | The Honorable Leirion Gaylor Baird, Mayor, City of Lincoln, 555 South 10th Street Suite 301, Lincoln, NE 68508. | Building and Safety Department, 555 South 10th Street, Lincoln, NE 68508. | Apr. 26, 2023 | 315273
Lancaster (FEMA Docket No.: B-2326). | Unincorporated Areas of Lancaster County (22-07-0708P). | Chair Deb Schorr, Lancaster County Board of Commissioners, 555 South 10th Street Room 110, Lincoln, NE 68508. | Lancaster County Building & Safety Department, 555 South 10th Street, Lincoln, NE 68508. | May 23, 2023 | 310134
Nevada:
Clark (FEMA Docket No.: B-2295). | City of Henderson (22-09-0282P). | The Honorable Michelle Romero, Mayor, City of Henderson, 240 South Water Street, Henderson, NV 89015. | Public Works Department, 240 South Water Street, Henderson, NV 89015. | Feb. 15, 2023 | 320005
Clark (FEMA Docket No.: B-2326). | City of Henderson (22-09-1370P). | The Honorable Michelle Romero, Mayor, City of Henderson, City Hall, 240 South Water Street, Henderson, NV 89015. | Public Works Department, 240 South Water Street, Henderson, NV 89015. | Jun. 8, 2023 | 320005
Clark (FEMA Docket No.: B-2295). | Unincorporated Areas of Clark County (22-09-0282P). | The Honorable James B. Gibson, Chair, Board of Commissioners, Clark County, 500 South Grand Central Parkway, 6th Floor, Las Vegas, NV 89155. | Clark County, Office of the Director of Public Works, 500 South Grand Central Parkway, 2nd Floor, Las Vegas, NV 89155. | Feb. 15, 2023 | 320003
Clark (FEMA Docket No.: B-2311). | Unincorporated Areas of Clark County (22-09-1177P). | The Honorable James B. Gibson, Chair, Board of Commissioners, Clark County, 500 South Grand Central Parkway, 6th Floor, Las Vegas, NV 89155. | Clark County, Office of the Director of Public Works, 500 South Grand Central Parkway, 2nd Floor, Las Vegas, NV 89155. | May 4, 2023 | 320003
New York:
Erie (FEMA Docket No.: B-2295). | Town of Clarence (22-02-0024P). | Supervisor Patrick Casilio, Town of Clarence, 95 Franklin Street, Buffalo, NY 14202. | Town Hall, 1 Town Place, Clarence, NY 14031. | Mar. 7, 2023 | 360232
Nassau (FEMA Docket No.: B-2295). | City of Long Beach (21-02-0901P). | President Karen McInnis, City Council, City of Long Beach, City Hall, 1 West Chester Street, Long Beach, NY 11561. | City Hall, 1 West Chester Street, Long Beach, NY 11561. | Apr. 5, 2023 | 365338
Nassau (FEMA Docket No.: B-2295). | Town of Hempstead (21-02-0901P). | Supervisor Donald X. Clavin, Jr., Town of Hempstead, 1 Washington Street, Hempstead, NY 11550. | Town Hall, 1 Hempstead Street, Hempstead, NY 11550. | Apr. 5, 2023 | 360467
Rockland (FEMA Docket No.: B-2302). | Village of Spring Valley (22-02-0020P). | The Honorable Alan M. Simon, Mayor, Village of Spring Valley, 200 North Main Street, Spring Valley, NY 10977. | Building Department, 200 North Main Street, Spring Valley, NY 10977. | May 23, 2023 | 365344
Ohio:
Fairfield (FEMA Docket No.: B-2326). | City of Pickerington (22-05-1171P). | The Honorable Lee A. Gary, Mayor, City of Pickerington, 100 Lockville Road, Pickerington, OH 43147. | City Hall, 51 East Columbus Street, Pickerington, OH 43147. | May 25, 2023 | 390162
Fairfield (FEMA Docket No.: B-2326). | Unincorporated Areas of Fairfield County (22-05-1171P). | Jeffery Fix, Fairfield County Commissioner, 210 East Main Street, Room 302, Lancaster, OH 43130. | Fairfield County Regional Planning Commission, 210 East Main Street, Room 104, Lancaster, OH 43130. | May 25, 2023 | 390158
Hamilton (FEMA Docket No.: B-2295). | Unincorporated Areas of Hamilton County (22-05-2681P). | President Stephanie Summerow Dumas, Hamilton County Board of Commissioners, 138 East Court Street Room 603, Cincinnati, OH 45202. | Hamilton County Department of Public Works, 138 East Court Street, Room 800, Cincinnati, OH 45202. | Feb. 2, 2023 | 390204
Miami (FEMA Docket No.: B-2295). | City of Piqua (22-05-2031P). | Manager Paul L. Oberdorfer, City of Piqua, 201 West Water Street, Piqua, OH 45356. | City Hall, 201 West Water Street, Piqua, OH 45356. | Mar. 10, 2023 | 390400
Miami (FEMA Docket No.: B-2295). | Unincorporated Areas of Miami County (22-05-2031P). | President Ted S. Mercer, Miami County Board of Commissioners, 201 West Main Street, Troy, OH 45373. | Miami County Safety Building, 201 West Water Street, Troy, OH 45356. | Mar. 10, 2023 | 390398
Texas:
Williamson (FEMA Docket No.: B-2311). | City of Hutto (22-06-1965P). | The Honorable Mike Snyder, Mayor, City of Hutto, 500 West Live Oak Street, Hutto, TX 78634. | City Hall, 500 West Live Oak Street, Hutto, TX 78634. | Apr. 17, 2023 | 481047
Williamson (FEMA Docket No.: B-2302). | City of Round Rock (22-06-1378P). | The Honorable Craig Morgan, Mayor, City of Round Rock, City Hall, 221 East Main Street, Round Rock, TX 78664. | Transportation Department, 2008 Enterprise Drive, Round Rock, TX 78664. | Apr. 5, 2023 | 481048
Washington:
Benton (FEMA Docket No.: B-2295). | City of Richland (21-10-0652P). | The Honorable Michael Alvarez, Mayor, City of Richland, 625 Swift Boulevard, MS 04, Richland, WA 99352. | City Hall, 625 Swift Boulevard, Richland, WA 99352. | Jan. 12, 2023 | 535533
Chelan (FEMA Docket No.: B-2295). | City of Chelan (22-10-0154P). | The Honorable John Olson, Mayor, City of Chelan, P.O. Box 1669, Chelan, WA 98816. | City Hall, 135 East Johnson, Chelan, WA 98816. | Jan. 19, 2023 | 530017
Chelan (FEMA Docket No.: B-2311). | Unincorporated Areas of Chelan County (22-10-0970P). | Cathy Mulhall, Chelan County Administrator, 400 Douglas Street, Suite 401, Wenatchee, WA 98801. | Chelan County, Department of Public Works, 350 Orondo Street, Wenatchee, WA 98801. | Apr. 27, 2023 | 530015
Clark (FEMA Docket No.: B-2311). | City of Woodland (23-10-0005P). | The Honorable William Finn, Mayor, City of Woodland, P.O. Box 9, Woodland, WA 98674. | City Hall, 230 Davidson Avenue, Woodland, WA 98674. | May 11, 2023 | 530035
Clark (FEMA Docket No.: B-2311). | Unincorporated Areas of Clark County (23-10-0005P). | Karen Dill Bowerman, County Councilor, District 3, Clark County, P.O. Box 5000 Vancouver, WA 98666. | Clark County, 1300 Franklin Street, Vancouver, WA 98660. | May 11, 2023 | 530024
Cowlitz (FEMA Docket No.: B-2311). | Unincorporated Areas of Cowlitz County (23-10-0005P). | Arne Mortensen, County Commissioner, Cowlitz County, 207 4th Avenue North Room 305, Kelso, WA 98626. | Cowlitz Administration Building, 207 4th Avenue North Room 305, Kelso, WA 98626. | May 11, 2023 | 530032
Spokane (FEMA Docket No.: B-2326). | Unincorporated Areas of Spokane County (22-10-0742P). | Scott Simmons, Chief Executive Officer, Spokane County, 1116 West Broadway Avenue, Spokane, WA 99260. | Spokane County, Public Works Building, 1026 West Broadway Avenue, Spokane, WA 99260. | Jun. 1, 2023 | 530174
Whatcom (FEMA Docket No.: B-2326). | City of Lynden (22-10-0639P). | The Honorable Scott Korthuis, Mayor, City of Lynden, City Hall, 300 4th Street, Lynden, WA 98264. | City Hall, 300 4th Street, Lynden, WA 98264. | Jun. 29, 2023 | 530202
Whitman (FEMA Docket No.: B-2295). | Unincorporated Areas of Whitman County (21-10-1053P). | Chair Michael Largent, Whitman County Board of Commissioners, 400 North Main Street, Colfax, WA 99111. | Whitman County City Government Office, 400 North Main Street, Colfax, WA 99111. | Feb. 10, 2023 | 530205
Wisconsin:
Brown (FEMA Docket No.: B-2295). | Unincorporated Areas of Brown County (21-05-4734P). | Executive Troy Streckenbach, Brown County, P.O. Box 23600, Green Bay, WI 54305. | Brown County, Zoning Office, 305 East Walnut Street, Green Bay, WI 54301. | Feb. 16, 2023 | 550020
Marathon (FEMA Docket No.: B-2295). | City of Mosinee (21-05-4158P). | Administrator Jeff Gates, City of Mosinee, 225 Main Street, Mosinee, WI 54455. | City Hall, 225 Main Street, Mosinee, WI 54455. | Jan. 13, 2023 | 555567
Marathon (FEMA Docket No.: B-2295). | Village of Kronenwetter (21-05-4158P). | President Chris Voll, Village Board of Kronenwetter, 1582 Kronenwetter Drive, Kronenwetter, WI 54455. | Municipal Center, 1582 Kronenwetter Drive, Mosinee, WI 54455. | Jan. 13, 2023 | 550193
Marathon (FEMA Docket No.: B-2295). | Village of Rothschild (21-05-4158P). | President George Peterson, Village of Rothschild Board of Trustees, Village Hall, 211 Grand Avenue, Rothschild, WI 54474. | Village Hall, 211 Grand Avenue, Rothschild, WI 54474. | Jan. 13, 2023 | 555577
Milwaukee (FEMA Docket No.: B-2302). | City of Milwaukee (21-05-3522P). | The Honorable Cavalier Johnson, Mayor, City of Milwaukee, 200 East Wells Street, Room 201, Milwaukee, WI 53202. | City Hall, 200 East Wells Street, Milwaukee, WI 53202. | Apr. 6, 2023 | 550278
Outagamie (FEMA Docket No.: B-2326). | Village of Shiocton (22-05-2012P). | Terri James, Village President, Village of Shiocton, Village Hall, P.O. Box 96, Shiocton, WI 54170. | Village Hall, N5605 State Road 76, Shiocton, WI 54170. | May 30, 2023 | 550309
Portage (FEMA Docket No.: B-2326). | Unincorporated Areas of Portage County (23-05-0737X). | Chair Al Haga, Jr., Portage County, Board of Supervisors, 2140 Norway Pine Drive, Plover, WI 54467. | Portage County Courthouse, 1516 Church Street, Stevens Point, WI 54481. | Jun. 5, 2023 | 550572
Racine (FEMA Docket No.: B-2326). | City of Racine (22-05-0143P). | The Honorable Cory Mason, Mayor, City of Racine, City Hall, 730 Washington Avenue Room 201, Racine, WI 53403. | City Hall, 730 Washington Avenue, Racine, WI 53403. | Jun. 29, 2023 | 555575
Racine (FEMA Docket No.: B-2326). | Village of Mount Pleasant (22-05-0143P). | The Honorable Dave Degroot, President, Village of Mount Pleasant, Village Hall, 8811 Campus Drive, Mount Pleasant, WI 53406. | Village Hall, 8811 Campus Drive, Mount Pleasant, WI 53406. | Jun. 29, 2023 | 550322
Racine (FEMA Docket No.: B-2326). | Village of Sturtevant (22-05-0143P). | The Honorable Mike Rosenbaum, President, Village of Sturtevant, 2801 89th Street, Sturtevant, WI 53177. | Village Hall, 2801 89th Street, Sturtevant, WI 53177. | Jun. 29, 2023 | 550353
Racine (FEMA Docket No.: B-2295). | Village of Sturtevant (22-05-1365P). | President Mike Rosenbaum, Village Board, Village of Sturtevant, 2801 89th Street, Sturtevant, WI 53177. | Village Hall, 2801 89th Street, Sturtevant, WI 53177. | Feb. 27, 2023 | 550353
Sheboygan (FEMA Docket No.: B-2295). | Unincorporated Areas of Sheboygan County (22-05-2161P). | Chair Vernon C. Koch, Sheboygan County Board of Supervisors, 508 New York Avenue Room 311, Sheboygan, WI 53081. | Sheboygan County Administrative Building, 508 New York Avenue, Sheboygan, WI 53081. | Feb. 10, 2023 | 550424
Sheboygan (FEMA Docket No.: B-2295). | Village of Random Lake (22-05-2161P). | President Michael San Felippo, Village Board, Village of Random Lake, 96 Russell Drive, Random Lake, WI 53075. | Village Hall, 96 Russell Drive, Random Lake, WI 53075. | Feb. 10, 2023 | 550429

[FR Doc. 2023-24798 Filed 11-8-23; 8:45 am]

BILLING CODE 9110-12-P